DEPARTMENT OF COMMERCE

Submission for OMB Review; Comment Request

The Department of Commerce has submitted to the Office of Management and Budget (OMB) for clearance the following proposal for collection of information under the provisions of the Paperwork Reduction Act (44 U.S.C. Chapter 35).

Agency: Minority Business Development Agency (MBDA).

Title: Online Databases: Performance, Phoenix, and Opportunity.

Form Number(s): None.

OMB Approval Number: 0640-0002.

Type of Request: Regular submission.

Burden Hours: 5,297.

Number of Respondents: 6,732.

Average Hours Per Response: 30 minutes.

Needs and Uses: A primary mission of MBDA's is to increase the opportunity for minority and socially disadvantaged minorities to participate in our national economy through the formation and development of competitive minority-owned firms. To this end, MBDA awards competitive agreements for the delivery of management and technical assistance services directly to minority entrepreneurs. The purpose of the Performance, Phoenix and Opportunity Databases are to provide an electronic system for (1) entering the accomplishments of MBDA's funded organizations (Performance), (2) entering minority-owned businesses doing business in the United States (Phoenix), and (3) matchmaking contract opportunities with eligible minority companies listed in the Phoenix database (Opportunity).

Affected Public: Business or other for-profit organizations, not-for-profits, and State, Local or Tribal governments.

Frequency: On occasion, quarterly, and biennially.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7258 or via the Internet at David_Rostker@omb.eop.gov.

Dated: April 4, 2006.
Gwellnar Banks,
Management Analyst, Office of the Chief Information Officer.

[FR Doc. E6-5159 Filed 4-7-06; 8:45 am]

BILLING CODE 3510-21-P